FEDERAL ELECTION COMMISSION

Sunshine Act Notice

AGENCY: Federal Election Commission.

DATE AND TIME: Thursday, September 1, 2011 at 10 a.m.

PLACE: 999 E Street, NW., Washington, DC (Ninth Floor).

STATUS: This meeting will be open to the public.

ITEMS TO BE DISCUSSED:

Correction and Approval of the Minutes for the Meeting of August 4, 2011.

Draft Advisory Opinion 2011-15: Abdul Karim Hassan, Esq.

Draft Advisory Opinion 2011-17: Giffords for Congress.

Interpretive Rule on When Certain Independent Expenditures are “Publicly Disseminated” for Reporting Purposes.

Proposed Final Audit Report on the United Association Political Education Committee (A09-27).

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Signed:
Shawn Woodhead Werth,
Secretary and Clerk of the Commission.

[FR Doc. 2011-22182 Filed 8-26-11; 11:15 am]

BILLING CODE 6715-01-P